DEPARTMENT OF HOUSING AND URBAN DEVELOPMENT

[Docket No. FR-4451-N-08]

Notice Terminating Funding Availability for Public Housing Drug Elimination Program Gun Buyback Violence Reduction Initiative

AGENCY: Office of the Assistant Secretary for Public and Indian Housing, HUD.

ACTION: Notice terminating funding availability for public housing drug elimination program gun buyback violence reduction initiative.

SUMMARY: On November 3, 1999, the Department of Housing and Urban Development (HUD) published in the Federal Register a Notice of Funding Availability (NOFA) announcing funding for its Gun Buyback Violence Reduction Initiative. On February 3, 2000, HUD amended and republished this NOFA. The purpose of the notice published today is to announce that HUD is terminating funding under its Gun Buyback Violence Reduction Initiative NOFA. HUD is also announcing that it will recapture and reprogram any PHDEP matching gun buyback funds that are not expended by Public Housing Authorities (PHAs) by the termination date of their grant agreements.

DATES: Termination of funding for the PHDEP Gun Buyback Violence Reduction Initiative is effective immediately.

FOR FURTHER INFORMATION CONTACT: Sonia Burgos, Director, Community Safety and Conservation Division, Office of Public and Indian Housing, Department of Housing and Urban Development, 451 Seventh Street, SW., Room 4206, Washington, DC 20410, telephone (202) 708-1197 ext. 4227. Hearing or speech-impaired individuals may access this number via TTY by calling the toll-free Federal Information Relay Service at 1-800-877-8339.

SUPPLEMENTARY INFORMATION: On November 3, 1999, HUD published in the Federal Register (at 64 FR 60080) a Notice of Funding Availability (NOFA) for the Public Housing Drug Elimination Program Gun Buyback Violence Reduction Initiative. The NOFA provided funding information and program guidelines for gun buyback initiatives. The NOFA stated that Public Housing Agencies (PHAs) may reprogram a portion of their FY 1999 PHDEP grant dollars in order to devote such resources to gun buyback violence reduction initiatives. The Department through the NOFA also made an additional $4.5 million available for gun buyback initiatives to PHAs that reprogrammed PHDEP funds for gun buyback violence reduction initiatives. This $4.5 million was to be awarded on a basis of $43 for every $100 of FY 1999 PHDEP funds reprogrammed for gun buyback violence reduction initiatives.

On February 3, 2000, HUD published in the Federal Register (at 65 FR 5400) a Notice of Amendment and Republication of the NOFA for the PHDEP Gun Buyback Violence Reduction Initiative. The amendment made clear that while HUD's matching funds are to be drawn only from the FY 1999 PHDEP set-aside, PHA's expenditures were not restricted to FY 1999 grant funds, but may come from PHDEP grant funds regardless of fiscal year.

The notice published in today's Federal Register, announces that HUD is terminating funding under its Gun Buyback Violence Reduction Initiative NOFA and, consequently, will no longer accept applications for funding. HUD is also announcing that it will recapture and reprogram any PHDEP matching gun buyback funds that are not expended by Public Housing Authorities by the termination date of their Grant Agreements.

Basis for Termination

Despite their good intentions, gun buyback initiatives are limited in their effectiveness as a strategy to combat violent and gun-related crimes, particularly in public and assisted housing communities. Buyback initiatives are likely to have more impact on reducing the number of gun-related accidents and deaths in homes than gun violence in public and assisted housing communities. There are several reasons why buyback projects are ineffective in reducing gun-related violent crimes in these neighborhoods.

First, the most effective strategies to combat gun violence are locally developed solutions initiated by PHAs working in partnership with state and local law enforcement agencies. In light of the top-down nature of this gun buyback initiative, PHAs across the nation have shown little interest in applying for or reprogramming PHDEP funding for gun buyback activities. This is underscored by the fact that only 100 PHAs out of 1,000 have reprogrammed and used $2,256,029 in PHDEP funding set-aside for gun buyback purposes out of $10.5 million that was available. Additionally, only $970,192 of the $4.5 in PHDEP technical assistance funding was used for gun buybacks.

Second, as an effort targeted at public and assisted housing, the results of gun buybacks are minimal. The buyback initiatives that are open to the general public have no guarantee of decreasing the supply of guns available to criminals who commit gun violence and related crimes that adversely impact residents living in public and assisted housing communities. At best, these buybacks may marginally be effective in reducing the at-large supply of guns held by the public. However, in light of the sheer volume of guns available in the United States and the tactics criminal use to acquire firearms, buybacks remove generally no more than 1 or 2 percent of the guns estimated to be in the hands of citizens across the nation.

Moreover, studies show that lawbreakers rarely surrender their weapons to buyback programs and many people who sell their guns have other firearms at home, or soon purchase new ones. In general, the age and type of guns turned in as a part of buyback programs are older guns. For example, in 1999, more than half the 2,912 weapons bought by the District of Columbia police for $100 apiece were 15 years old. These are not the same firearms as those used by youth or adult offenders to commit violent or drug-related criminal activity. The guns of choice for young offenders are fast, firing 9 millimeter or .380 caliber semiautomatic pistols that more often show up in crime records than at sites where buyback programs take place. According to the Bureau of Alcohol, Tobacco and Firearms, more than one-third, and it is estimated that possibly as many as one-half, of all guns seized from young adults nation-wide are new guns purchased legally within the previous 3 years.

Conclusion

HUD acknowledges the importance of raising awareness regarding gun safety and supporting law enforcement efforts to decrease gun-related violent crimes that impact the general public and, more particularly, public and assisted housing communities across the nation. However, the Department strongly believes other State and local resources and federally-supported gun control and crime-prevention efforts should be targeted toward getting guns out of the hands of criminals. Equally important, HUD believes the Department's limited appropriations should be targeted to more conventional drug elimination and crime prevention activities that are consistent with the core HUD mission and are more effective in reducing gun violence in neighborhoods surrounding public and assisted housing communities. As a result, HUD has decided to terminate the gun buyback initiative as a special set-aside under PHDEP.

Dated: June 29, 2001.
Paula O. Blunt,
Acting General Deputy Assistant, Secretary for Public and Indian Housing.

[FR Doc. 01-18331 Filed 7-20-01; 8:45 am]

BILLING CODE 4210-33-P